DEPARTMENT OF AGRICULTURE

Foreign Agricultural Service

Trade Adjustment Assistance for Farmers

AGENCY: Foreign Agricultural Service, USDA.

ACTION: Notice.

On March 22, 2007, the Administrator, Foreign Agricultural Service (FAS), denied a petition for trade adjustment assistance (TAA) for Michigan natural honey, white or lighter, that was filed on February 16, 2007, by a group of apiarists.

SUPPLEMENTARY INFORMATION: Upon investigation, the Administrator determined that prices did not decline by at least 20 percent for the most recent marketing year compared to previous 5-year average. During the 2005 marketing year, prices were 89.6 percent of the 5-year base average. Since producer prices did not decline by at least 20 percent during the most recent marketing year, the petition did not meet the price decline requirement, a condition required for certifying a petition for TAA.

FOR FURTHER INFORMATION, CONTACT: Jean-Louis Pajot, Coordinator, Trade Adjustment Assistance for Farmers, FAS, USDA, (202) 720-2916, e-mail: trade.adjustment@fas.usda.gov.

Dated: March 23, 2007.
W. Kirk Miller,
Administrator, Foreign Agricultural Service.

[FR Doc. E7-6463 Filed 4-5-07; 8:45 am]

BILLING CODE 3410-10-P